DEPARTMENT OF COMMERCE

National Oceanic and Atmospheric Administration

RIN 0648-XC289

Endangered Species; File No. 16230

AGENCY: National Marine Fisheries Service (NMFS), National Oceanic and Atmospheric Administration (NOAA), Commerce.

ACTION: Notice of permit issuance.

SUMMARY: Notice is hereby given that NMFS has issued a permit to the North Carolina Division of Marine Fisheries (NCDMF) for the incidental take of sea turtles associated with the otherwise lawful commercial gillnet fishery in North Carolina inshore state waters.

ADDRESSES: The incidental take permit, final environmental assessment, and other related documents are available on the NMFS Office of Protected Resources Web site at http://www.nmfs.noaa.gov/pr/permits/esa_review.htm.

FOR FURTHER INFORMATION CONTACT: Kristy Long (ph. 301-427-8402, email Kristy.Long@noaa.gov or Sara McNulty (ph. 301-427-8402, email Sara.McNulty@noaa.gov).

SUPPLEMENTARY INFORMATION: On August 18, 2011, NCDMF submitted a revised application to NMFS for Permit No. 16230, requesting authorization for incidental take of sea turtles listed under the Endangered Species Act (ESA) associated with commercial and recreational gillnet fisheries in inshore state waters for three years. The application requests incidental take authorization for endangered Kemp's ridley (Lepidochelys kempii), leatherback (Dermochelys coriacea), and hawksbill (Eretmochelys imbricata) sea turtles and threatened green (Chelonia mydas) and loggerhead sea turtles (Caretta caretta). NMFS published a notice of receipt of the August 2011 application and a request for public comments on October 5, 2011 (76 FR 61670). Based on comments received from the public, independent reviewers, and NMFS, NCDMF subsequently submitted a second revised application on September 6, 2012. NMFS has issued the requested permit under the authority of the Endangered Species Act of 1973, as amended (ESA; 16 U.S.C. 1531 et seq.) and the regulations governing the taking, importing, and exporting of endangered and threatened species (50 CFR parts 222-226).

This permit authorizes the incidental take of specified numbers of sea turtles incidental to the continued commercial harvest of target fish species in gillnets subject to monitor, minimize, and mitigate incidental take in North Carolina inshore state waters as set forth in the conservation plan and the permit for a 10-year period.

The conservation plan includes managing inshore gill net fisheries by dividing estuarine waters into six management units (i.e., A, B, C, D1, D2, E). Each of the management units will be monitored seasonally and by fishery. Management Unit A encompasses all estuarine waters north of 35° 46.30'N. to the North Carolina/Virginia state line. This includes all of Albemarle, Currituck, Croatan, and Roanoke sounds as well as the contributing river systems in this area. Management Unit B encompasses all estuarine waters south of 35° 46.30′ N., east of 76° 30.00′ W., and north of 34° 48.27′ N. This Management Unit will include all of Pamlico Sound and the Northern portion of Core Sound. Management Unit C will include the Pamlico, Pungo and Neuse river drainages west of 76° 30.00′ W. Management Unit D1 encompasses all estuarine waters south of 34° 48.27′ N. and east of a line running from 34° 40.70′ N.-76° 22.50′ W. to 34° 42.48′ N.-76° 36.70′ W. Management Unit D1 includes Southern Core Sound, Back Sound and North River. Management Unit D2 encompasses all estuarine waters west of a line running from 34° 40.70′ N.-76° 22.50′ W. to 34° 42.48′ N.-76° 36.70′ W. to the Highway 58 bridge. Management Unit D2 includes Newport River and Bogue Sound. Management Unit E encompasses all estuarine waters south and west of the Highway 58 bridge to the North Carolina/South Carolina state line. This includes the Atlantic Intercoastal Waterway and adjacent sounds, and the New, Cape Fear, Lockwood Folly, White Oak, and Shallotte rivers.

Required management measures include: (1) Restricted soak times for large mesh gillnets from one hour before sunset on Monday through Thursday and one hour after sunrise from Tuesday through Friday (i.e., fishing is prohibited from one hour after sunrise on Friday through one hour before sunset on Monday); (2) restrictions on the maximum net length per large mesh fishing operation (i.e., 2,000 yards (1.83 km, 6,000 ft) per operation except south of the NC Highway 58 bridge and Management Area D2 where 1,000 yards (0.91 km, 3,000 ft) is maximum; (3) restrictions on large mesh net-shot lengths to 100 yards (91.44 m, 300 ft) with a 25 yard (22.86 m, 75 ft) separation between each net-shot; (4) requirement for large mesh nets to be low profile (e.g., maximum of 15 meshes in depth, tie-downs prohibited, floats or corks prohibited along float lines north of the NC Highway 58 bridge); (5) closure of Management Area D1 to unattended large mesh gillnets from May 8-October 14 annually; (6) prohibition on large mesh gillnets in the deep water portions of the Pamlico Sound Gillnet Restricted Area (PSGNRA) and Oregon, Hatteras, and Ocracoke inlets from September 1-December 15; (7) adaptive fishery management measures and restrictions through state proclamation authority (e.g., gear and/or area restrictions, attendance requirements, increased observer coverage and/or enforcement); and (8) continuation of North Carolina's regulations for small mesh gillnet attendance requirements.

NCDMF will maintain a monitoring program that consists of a combination of onboard and alternate platform observers, trip ticket program, and marine patrol officer activities (when needed). NCDMF will monitor six primary management units in inshore waters as described in the conservation plan. NCDMF will monitor at least 7% (with a goal of 10%) of large mesh (≥4.0 ISM) gillnet trips in each area during each of 3 seasons (i.e., spring, summer, and fall) as defined in the conservation plan. NCDMF will monitor at least 1% (with a goal of 2%) of small mesh (<4.0 ISM) gillnet trips in each area during each of three seasons (i.e., spring, summer, fall) as defined in the conservation plan.

The amount of annual incidental take of sea turtles authorized is expressed as either estimated or observed takes depending on the amount of data available for modeling predicted takes. Because reaching the estimated or observed level for any category of take for any species would end the incidental take authorization for all species, it is highly unlikely that all five species would be impacted at these levels. For areas B, D1, D2, and E, the annual incidental take authorized by species is 49 estimated dead, 98 estimated live, and 12 observed (live or dead) Kemp's ridley turtles; 165 estimated dead, 330 estimated live, and 18 observed (live or dead) green turtles; 24 observed (live or dead) loggerhead turtles; eight observed (live or dead) leatherback turtles; and eight observed (live or dead) hawksbill turtles. Additionally, eight observed (live or dead) of any of the five species are authorized for areas A and C.

Dated: September 10, 2013.
Perry Gayaldo,
Acting Director, Office of Protected Resources, National Marine Fisheries Service.

[FR Doc. 2013-22592 Filed 9-16-13; 8:45 am]

BILLING CODE 3510-22-P